DEPARTMENT OF THE TREASURY

Submission for OMB Review; Comment Request

June 7, 2010.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before July 14, 2010 to be assured of consideration.

Internal Revenue Service (IRS)

OMB Number: 1545-2036

Type of Review: Extension without change of a currently approved collection.

Title: Taxation and Reporting of REIT Excess Inclusion Income (Notice 2006-97).

Abstract: The notice requires certain REITs, RICs, partnerships and other Pass-Through Entities that have excess inclusion income to disclose the amount and character of such income allocable to their record interest owners. The record interest owners need the information to properly report and pay taxes on such income.

Respondents: Private Sector: Businesses or other for-profits.

Estimated Total Burden Hours: 100 hours.

OMB Number: 1545-0735

Type of Review: Extension without change of a currently approved collection.

Title: LR-189-80 (T.D. 7927) Final Amortization of Reforestation Expenditures

Abstract: 26 U.S.C. 194(a) allows taxpayers to elect to amortize certain reforestation expenditures over a 7-year period if the expenditures meet certain requirements. The regulations implement this election provision and allow the Service to determine if the election is proper and allowable.

Respondents: Individuals or Households.

Estimated Total Burden Hours: 6,001 hours.

OMB Number: 1545-1219

Type of Review: Revision of a currently approved collection.

Title: Arbitrage Rebate and Penalty in Lieu of Arbitrage Rebate.

Form: 8038-T

Abstract: Form 8038-T is used by issuers of tax exempt bonds to report and pay the arbitrage rebate and to elect and/or pay various penalties associated with arbitrage bonds. These issuers include state and local governments.

Respondents: State, Local, and Tribal Governments.

Estimated Total Burden Hours: 57,900 hours.

OMB Number: 1545-1300

Type of Review: Extension without change of a currently approved collection.

Title: FI-46-89 (T.D. 8641) (Final) Treatment of Acquisition of Certain Financial Institutions: Certain Tax Consequences of Federal Financial Assistance to Financial Institutions.

Abstract: Recipients of Federal financial assistance (FFA) must maintain an account of FFA that is deferred from inclusion in gross income and subsequently recaptured. This information is used to determine the recipient's tax liability. Also, tax not subject to collection must be reported and information must be provided if certain elections are made.

Respondents: Private Sector: Businesses or other for-profits.

Estimated Total Burden Hours: 2,200 hours.

OMB Number: 1545-1580

Type of Review: Extension without change of a currently approved collection.

Title: REG-105885-99 (T.D. 9075) (Final), Compensation Deferred Under Eligible Deferred Compensation Plans.

Abstract: REG-105885-99 and T.D. 1580 provides guidance regarding the trust requirements for certain eligible deferred compensation plans enacted in the Small Business Job Protection Act of 1996.

Respondents: Private Sector: Businesses or other for-profits.

Estimated Total Burden Hours: 10,600 hours.

OMB Number: 1545-0057

Type of Review: Extension without change of a currently approved collection.

Title: Application for Recognition of Exemption Under Section 501(a).

Form: 1024

Abstract: Organizations seeking exemption from Federal Income tax under Internal Revenue Code section 501(a) as an organization described in most paragraphs of section 501(c) must use Form 1024 to apply for exemption. The information collected is used to determine whether the organization qualifies for tax-exempt status.

Respondents: Private Sector: Not-for-profit institutions.

Estimated Total Burden Hours: 291,542 hours.

OMB Number: 1545-0962

Type of Review: Extension without change of a currently approved collection.

Title: Tax Information Security Guidelines for Federal, State, and Local Agencies.

Abstract: Internal Revenue Code section 6103(p) requires that IRS provide periodic reports to Congress describing safeguard procedures, utilized by agencies which receive information from the IRS, to protect the confidentiality of the information. This section also requires that these agencies furnish reports to the IRS describing their safeguards.

Respondents: State, Local, and Tribal Governments.

Estimated Total Burden Hours: 204,000 hours.

OMB Number: 1545-2034

Type of Review: Revision of a currently approved collection.

Title: U.S. Partnership Declaration for an IRS e-file Return.

Form: 8453-PE

Abstract: Form 8453-PE, U.S. Partnership Declaration for an IRS e-file Return, was developed for Modernized e-file for partnerships. Internal Revenue Code sections 6109 and 6103.

Respondents: Private Sector: Businesses or other for-profits.

Estimated Total Burden Hours: 1,660 hours.

OMB Number: 1545-2080

Type of Review: Extension without change of a currently approved collection.

Title: Revenue Procedure 2010-9.

Abstract: This revenue procedure sets forth procedures for issuing determination letters and rulings on the exempt status of organizations under §§ 501 and 521 of the Internal Revenue Code other than those subject to Rev. Proc. 2010-6, 2010-1 I.R.B. 193 (relating to pension, profit-sharing, stock bonus, annuity, and employee stock ownership plans). Generally, the Service issues these determination letters and rulings in response to applications for recognition of exemption from Federal income tax. These procedures also apply to revocation or modification of determination letters or rulings.

Respondents: Not-for-profit institutions.

Estimated Total Burden Hours: 200 hours.

Bureau Clearance Officer: R. Joseph Durbala, Internal Revenue Service, 1111 Constitution Avenue, NW., Room 6129, Washington, DC 20224; (202) 622-3634.

OMB Reviewer: Shagufta Ahmed, Office of Management and Budget, New Executive Office Building, Room 10235, Washington, DC 20503; (202) 395-7873.

Celina Elphage,
Treasury PRA Clearance Officer.

[FR Doc. 2010-14166 Filed 6-11-10; 8:45 am]

BILLING CODE 4830-01-P